FEDERAL RESERVE SYSTEM

12 CFR Chapter II

[Docket No. R-1786]

RIN 7100-AG44

FEDERAL DEPOSIT INSURANCE CORPORATION

12 CFR Chapter III

RIN 3064-AF86

Resolution-Related Resource Requirements for Large Banking Organizations; Extension of Comment Period

AGENCY: Board of Governors of the Federal Reserve System, Federal Deposit Insurance Corporation.

ACTION: Advance notice of proposed rulemaking; extension of comment period.

SUMMARY: On October 24, 2022, the Board of Governors of the Federal Reserve System (Board) and the Federal Deposit Insurance Corporation (FDIC) (together, the agencies) published in the Federal Register an advance notice of proposed rulemaking (ANPR) to solicit public input regarding whether an extra layer of loss-absorbing capacity could improve optionality in resolving a large banking organization or its insured depository institution, and the costs and benefits of such a requirement. The agencies have determined that an extension of the comment period until January 23, 2023, is appropriate, and are therefore making that extension.

DATES: The comment period for the advance notice of proposed rulemaking published October 24, 2022, at 87 FR 64170, is extended. Comments must be received by January 23, 2023.

ADDRESSES: You may submit comments by any of the methods identified in the ANPR.

FOR FURTHER INFORMATION CONTACT:

Board: Molly Mahar, Senior Associate Director, (202) 973-7360; Catherine Tilford, Deputy Associate Director, (202) 452-5240; Lesley Chao, Lead Financial Institution Policy Analyst, Policy Development, (202) 974-7063, Division of Supervision and Regulation; Charles Gray, Deputy General Counsel, (202) 510-3484, Reena Sahni, Associate General Counsel, (202) 452-2026, Jay Schwarz, Assistant General Counsel, (202) 452-2970, Andrew Hartlage, Senior Counsel, (202) 452-6483, Legal Division, Board of Governors of the Federal Reserve System, 20th Street and Constitution Avenue NW, Washington, DC 20551. For users of TTY-TRS, please call 711 from any telephone, anywhere in the United States.

FDIC: Andrew J. Felton, Deputy Director, (202) 898-3691; Ryan P. Tetrick, Deputy Director, (202) 898-7028; Jenny G. Traille, Associate Director, (202) 898-3608; Julia E. Paris, Senior Cross-Border Specialist, (202) 898-3821; Division of Complex Institution Supervision and Resolution; R. Penfield Starke, Assistant General Counsel, (202) 898-8501, rstarke@fdic.gov; David N. Wall, Assistant General Counsel, (202) 898-6575, Legal Division, Federal Deposit Insurance Corporation, 550 17th Street NW, Washington, DC 20429.

SUPPLEMENTARY INFORMATION: On October 24, 2022, the agencies published in the Federal Register an ANPR to solicit public input regarding whether an extra layer of loss-absorbing capacity could improve optionality in resolving a large banking organization or its insured depository institution, and the costs and benefits of such a requirement.¹ This may, among other things, address financial stability by limiting contagion risk through the reduction in the likelihood of uninsured depositors suffering loss, and keep various resolution options open for the FDIC to resolve a firm in a way that minimizes the long term risk to financial stability and preserves optionality. The agencies are seeking comment on all aspects of the ANPR from all interested parties and also request commenters to identify other issues that the Board and FDIC should consider.

¹ 87 FR 64170 (October 24, 2022).

The ANPR stated that the comment period would close on December 23, 2022. The agencies have received a request to extend the comment period. An extension of the comment period would provide additional opportunity for the public to prepare comments to address questions posed by the agencies. Therefore, the agencies are extending the end of the comment period for the ANPR from December 23, 2022, to January 23, 2022.

By order of the Board of Governors of the Federal Reserve System, acting through the Secretary of the Board under delegated authority.
Ann E. Misback,
Secretary of the Board, Federal Deposit Insurance Corporation.
By order of the Board of Directors.
Dated at Washington, DC, on December 14, 2022.
James P. Sheesley,
Assistant Executive Secretary.

[FR Doc. 2022-27475 Filed 12-16-22; 8:45 am]

BILLING CODE 6714-01-P; 6210-01-P